DEPARTMENT OF LABOR

Occupational Safety and Health Administration

29 CFR Part 1910

[Docket No. OSHA-2007-0073]

RIN 1218-AC91

Emergency Response Standard

AGENCY: Occupational Safety and Health Administration (OSHA), DOL.

ACTION: Notice of proposed rulemaking (NPRM); extension of comment period.

SUMMARY: OSHA is extending the period for submitting comments by 45 days to allow stakeholders interested in the NPRM on Emergency Response additional time to review the NPRM and collect information and data necessary for comment.

DATES: The comment period for the NPRM that was published at 89 FR 7774 on February 5, 2024, is extended. Comments on any aspect of the NPRM must be submitted by June 21, 2024.

ADDRESSES:

Written comments: You may submit comments and attachments, identified by Docket No. OSHA-2007-0073, electronically at www.regulations.gov, which is the Federal e-Rulemaking Portal. Follow the online instructions for making electronic submissions. The Federal e-Rulemaking Portal at www.regulations.gov is the only way to submit comments on this NPRM.

Instructions: All submissions must include the agency's name and the docket number for this rulemaking (Docket No. OSHA-2007-0073). All comments, including any personal information you provide, are placed in the public docket without change and may be made available online at www.regulations.gov. Therefore, OSHA cautions commenters about submitting information they do not want made available to the public or submitting materials that contain personal information (either about themselves or others), such as Social Security Numbers and birthdates.

Docket: To read or download comments or other material in the docket, go to Docket No. OSHA-2007-0073 at www.regulations.gov. All comments and submissions are listed in the www.regulations.gov index; however, some information (e.g., copyrighted material) is not publicly available to read or download through that website. All comments and submissions, including copyrighted material, are available for inspection through the OSHA Docket Office. Documents submitted to the docket by OSHA or stakeholders are assigned document identification numbers (Document ID) for easy identification and retrieval. The full Document ID is the docket number plus a unique four-digit code. OSHA is identifying supporting information in this NPRM by author name and publication year, when appropriate. This information can be used to search for a supporting document in the docket at www.regulations.gov. Contact the OSHA Docket Office at 202-693-2350 (TTY number: 877-889-5627) for assistance in locating docket submissions.

FOR FURTHER INFORMATION CONTACT:

Press inquiries: Contact Frank Meilinger, Director, Office of Communications, U.S. Department of Labor; telephone: (202) 693-1999; email: meilinger.francis2@dol.gov.

General and technical information: Contact Mark Hagemann, Director, Office of Safety Systems, Directorate of Standards and Guidance, Occupational Safety and Health Administration, U.S. Department of Labor; telephone (202) 693-2222; email: hagemann.mark@dol.gov.

SUPPLEMENTARY INFORMATION:

On February 5, 2024, OSHA issued an NPRM to initiate rulemaking to update the existing Fire Brigades standard. The proposed rule would expand the scope of OSHA's standard to include a broad range of hazards emergency responders encounter during emergency response activities and would bring the standard in line with the Federal Emergency Management Agency's (FEMA) National Response Framework. It would also modernize the standard to align with the current industry consensus standards issued by the National Fire Protection Association (NFPA) on the safe conduct of emergency response activities.

The public comment period for the NPRM was to close on May 6, 2024, 90 days after publication of the NPRM. However, OSHA received requests from stakeholders to extend the comment period by an additional 30 days (Document ID 0419); 60 days (see, e.g., Document ID 0426, 0428, 0439, 0440); and 90 days (see, e.g., Document ID 0420, 0434, 0437, 0453). Stakeholders explained that they need additional time to carefully review the questions in the NPRM and gather data.

OSHA agrees to an extension of the public comment period and believes a 45-day extension is sufficient and appropriate in order to balance the agency's need for stakeholder input with the agency's desire to proceed with the rulemaking in a timely manner. Therefore, OSHA is extending the public comment period until June 21, 2024.

Additionally, several commenters submitted requests for a public hearing on the NPRM (see, e.g., Document ID 0435, 0444, 0456, 0459, 0463). OSHA plans to hold a virtual public hearing after the close of the comment period to allow stakeholders from all over the country to participate. OSHA will publish a separate notice at a future date to announce the details of the public hearing.

Authority and Signature

Douglas L. Parker, Assistant Secretary of Labor for Occupational Safety and Health, U.S. Department of Labor, 200 Constitution Avenue NW, Washington, DC 20210, authorized the preparation of this document pursuant to the following authorities: Sections 4, 6, and 8 of the Occupational Safety and Health Act of 1970 (29 U.S.C. 653, 655, 657); Secretary of Labor's Order 8-2020 (85 FR 58393 (Sept. 18, 2020)); 29 CFR part 1911; and 5 U.S.C. 553.

Signed at Washington, DC.
Douglas L. Parker,
Assistant Secretary of Labor for Occupational Safety and Health.

[FR Doc. 2024-06610 Filed 3-27-24; 8:45 am]

BILLING CODE 4510-26-P